DEPARTMENT OF COMMERCE

International Trade Administration

[A-552-802]

Certain Frozen Warmwater Shrimp From the Socialist Republic of Vietnam: Extension of Time Limit for Final Results of the Second New Shipper Review

AGENCY: Import Administration, International Trade Administration, Department of Commerce.

DATES: Effective Date: April 15, 2009.

FOR FURTHER INFORMATION CONTACT: Emeka Chukwudebe, AD/CVD Operations, Office 9, Import Administration, International Trade Administration, U.S. Department of Commerce, 14th Street and Constitution Avenue, NW., Washington, DC 20230; telephone: (202) 482-0219.

Background

On January 28, 2009, the Department of Commerce (“Department”) published the preliminary results of the second new shipper review for the period February 1, 2007, through January 31, 2008. See Certain Frozen Warmwater Shrimp from the Socialist Republic of Vietnam: Preliminary Results of the Second New Shipper Review, 74 FR 4923 (January 28, 2009) (“Preliminary Results”). The final results are currently due on April 16, 2009.

Extension of Time Limits for Final Results

Section 751(a)(2)(B)(iv) of the Tariff Act of 1930, as amended (“Act”), and 19 CFR 351.214(i)(1) require the Department to issue the final results in a new shipper review of an antidumping duty order 90 days after the date on which the preliminary results are published. The Department may, however, extend the deadline for completion of the final results of a new shipper review to 150 days after the date on which the preliminary results are published if it determines that the review is extraordinarily complicated. See section 751(a)(2)(B)(iv) of the Act and 19 CFR 351.214(i)(2).

The Department determines that this new shipper review involves extraordinarily complicated methodological issues, including the intermediate input methodology. Therefore, in accordance with section 751(a)(2)(B)(iv) of the Act and 19 CFR 351.214(i)(2), the Department is extending the time limit for these preliminary results by 60 days, until no later than Monday, June 15, 2009.

This notice is published in accordance with section 751(a)(2)(B)(iv) of the Act and 19 CFR 351.214(i)(2).

Dated: April 9, 2009.
John M. Andersen,
Acting Deputy Assistant Secretary for Antidumping and Countervailing Duty Operations.

[FR Doc. E9-8626 Filed 4-14-09; 8:45 am]

BILLING CODE 3510-DS-P